DEPARTMENT OF AGRICULTURE

Submission for OMB Review; Comment Request

July 7, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by August 11, 2014 will be considered. Written comments should be addressed to: Desk Officer for Agriculture, Office of Information and Regulatory Affairs, Office of Management and Budget (OMB), New Executive Office Building, 725—17th Street NW., Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

30-day Federal Register Notice

Forest Service

Title: National Forest System Land Management Planning—Generic Collection

OMB Control Number: 0596-NEW

Summary Of Collection: Section 6 of the National Forest Management Act of 1976 (16 U.S.C. 1600 et seq.) and implementing regulations 36 CFR part 219 (2012 Planning Rule) direct the U.S. Forest Service to revise land management plans for each National Forest System unit every 15 years, and to continuously monitor conditions to inform interim or subsequent planning actions. The planning process requires public participation and involvement. As such, the agency will invite public participation broadly to facilitate public comments and submission of information that members of the public find to be relevant.

Need And Use Of The Information: To ensure that the Agency can be inclusive of, and responsive to, customer/stakeholder concerns during the development, assessment, and monitoring of National Forest System Land Management Plans, the agency will use a variety of methods, such as but not limited to, customer/stakeholder comment cards, focus groups, small discussion groups and surveys. Feedback and input will provide insights into customer or stakeholder perceptions, experiences and expectations, provide an early warning of issues with service, or focus attention on areas where communications, training, or changes in operations might improve delivery of products or services such as improved Land Management Planning or the implementation thereof.

Description Of Respondents: Individuals or households; business or other for-profit; not-for-profit institutions; and State, Local, Tribal Government

Number Of Respondents: 37,250

Frequency Of Responses: Reporting: On occasion

Total Burden Hours: 63,000

Charlene Parker,
Departmental Information Collection Clearance Officer.

[FR Doc. 2014-16210 Filed 7-10-14; 8:45 am]

BILLING CODE 3411-15-P